DEPARTMENT OF EDUCATION

Notice of Submission for OMB Review; Application for Grants Under the Upward Bound Math and Science Program

AGENCY: Office of Postsecondary Education, Department of Education.

SUMMARY: The Upward Bound Math and Science (UBMS) program provides grants to institutions of higher education, public and private agencies and organizations, and community-based organizations with experience in serving disadvantaged youth, combinations of such institutions, agencies and organizations, and secondary schools and provides grants for projects designed to provide the skills and motivation necessary for success in a program of postsecondary education that lead to careers in math and science.

DATES: Interested persons are invited to submit comments on or before May 9, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04838. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for Grants under the Upward Bound Math and Science Program.

OMB Control Number: Pending.

Type of Review: New.

Total Estimated Number of Annual Responses: 475.

Total Estimated Number of Annual Burden Hours: 15,830.

Abstract: The U. S. Department of Education is requesting a new application for grants under the Upward Bound Math and Science (UBMS). The previous package was part of the regular Upward Bound Program (UB) (OMB No. 1840-0550) package. The regular UB program provides federal grants for three types of projects: regular UB, UBMS, and Veterans Upward Bound. However, each project has a separate collection; therefore, we are requesting a new application package. The Department is requesting a new application because of the implementation of the Higher Education Opportunity Act revisions to the Higher Education Act of 1965, as amended, the authorizing statute for the program. This application will be used to award new grants and collect data.

This information collection is being submitted under the Streamlined Clearance Process for Discretionary Grant Information Collections (1894-0001). Therefore, the 30-day public comment period notice will be the only public comment notice published for this information collection.

Dated: April 3, 2012.
Darrin A. King,
Director, Information Collection Clearance Division, Privacy, Information and Records Management Services, Office of Management.

[FR Doc. 2012-8422 Filed 4-6-12; 8:45 am]

BILLING CODE 4000-01-P